OFFICE OF THE UNITED STATES TRADE REPRESENTATIVE

Procurement Thresholds for Implementation of the Trade Agreements Act of 1979

AGENCY: Office of the United States Trade Representative.

ACTION: Notice of Determination of Procurement Thresholds.

FOR FURTHER INFORMATION CONTACT: Jean Heilman Grier, Senior Procurement Negotiator, Office of the United States Trade Representative, (202) 395-9476 or Jean_Grier@ustr.eop.gov.

SUMMARY: Executive Order 12260 requires the United States Trade Representative to set the U.S. dollar thresholds for application of Title III of the Trade Agreements Act of 1979, as amended (19 U.S.C. 2511 et seq.), which implements U.S. trade agreement obligations, including those under the World Trade Organization (WTO) Agreement on Government Procurement, Chapter 15 of the United States-Australia Free Trade Agreement (U.S.-Australia FTA), Chapter 9 of the United States-Bahrain Free Trade Agreement (U.S.-Bahrain FTA), Chapter 9 of the United States-Chile Free Trade Agreement (U.S.-Chile FTA), Chapter 9 of the Dominican Republic-Central American-United States Free Trade Agreement (DR-CAFTA), Chapter 9 of the United States-Morocco Free Trade Agreement (U.S.-Morocco FTA), Chapter 10 of the North American Free Trade Agreement (NAFTA), Chapter 9 of the United States-Oman Free Trade Agreement (U.S.-Oman FTA), Chapter 9 of the United States-Peru Trade Promotion Agreement (U.S.-Peru TPA), and Chapter 13 of the United States-Singapore Free Trade Agreement (U.S.-Singapore FTA). These obligations apply to covered procurements valued at or above specified U.S. dollar thresholds.

Now, therefore, I, Ronald Kirk, United States Trade Representative, in conformity with the provisions of Executive Order 12260, and in order to carry out U.S. trade agreement obligations under the WTO Agreement on Government Procurement, Chapter 15 of the U.S.-Australia FTA, Chapter 9 of the U.S.-Bahrain FTA, Chapter 9 of the U.S.-Chile FTA, Chapter 9 of DR-CAFTA, Chapter 9 of the U.S.-Morocco FTA, Chapter 10 of NAFTA, Chapter 9 of the U.S.-Oman FTA, Chapter 9 of the U.S.-Peru TPA, and Chapter 13 of the U.S.-Singapore FTA, do hereby determine, effective on January 1, 2012:

For the calendar years 2012 and 2013, the thresholds are as follows:

I. WTO Agreement on Government Procurement

A. Central Government Entities Listed in U.S. Annex 1

(1) Procurement of goods and services—$202,000; and

(2) Procurement of construction services—$7,777,000.

B. Sub-Central Government Entities Listed in U.S. Annex 2

(1) Procurement of goods and services—$552,000; and

(2) Procurement of construction services—$7,777,000.

C. Other Entities Listed in U.S. Annex 3

(1) Procurement of goods and services—$622,000; and

(2) Procurement of construction services—$7,777,000.

II. U.S.-Australia FTA, Chapter 15

A. Central Government Entities Listed in the U.S. Schedule to Annex 15-A, Section 1

(1) Procurement of goods and services—$77,494; and

(2) Procurement of construction services—$7,777,000.

B. Sub-Central Government Entities Listed in the U.S. Schedule to Annex 15-A, Section 2

(1) Procurement of goods and services—$552,000; and

(2) Procurement of construction services—$7,777,000.

C. Other Entities Listed in the U.S. Schedule to Annex 15-A, Section 3

(1) Procurement of goods and services for List A Entities— $387,471;

(2) Procurement of goods and services for List B Entities— $622,000;

(3) Procurement of construction services—$7,777,000.

III. U.S.-Bahrain FTA, Chapter 9

A. Central Government Entities Listed in the U.S. Schedule to Annex 9-A-1

(1) Procurement of goods and services—$202,000; and

(2) Procurement of construction services—$10,074,262.

B. Other Entities Listed in the U.S. Schedule to Annex 9-A-2

(1) Procurement of goods and services for List B entities—$622,000; and

(2) Procurement of construction services—$12,399,671.

IV. U.S.-Chile FTA, Chapter 9

A. Central Government Entities Listed in the U.S. Schedule to Annex 9.1, Section A

(1) Procurement of goods and services—$77,494; and

(2) Procurement of construction services—$7,777,000.

B. Sub-Central Government Entities Listed in the U.S. Schedule to Annex 9.1, Section B

(1) Procurement of goods and services—$552,000; and

(2) Procurement of construction services—$7,777,000.

C. Other Entities Listed in the U.S. Schedule to Annex 9.1, Section C

(1) Procurement of goods and services for List A Entities— $387,471;

(2) Procurement of goods and services for List B Entities— $622,000;

(3) Procurement of construction services—$7,777,000.

V. DR-CAFTA, Chapter 9

A. Central Government Entities Listed in the U.S. Schedule to Annex 9.1.2(b)(i), Section A

(1) Procurement of goods and services—$77,494; and

(2) Procurement of construction services—$7,777,000.

B. Sub-Central Government Entities Listed in the U.S. Schedule to Annex 9.1.2(b)(i), Section B

(1) Procurement of goods and services—$552,000; and

(2) Procurement of construction services—$7,777,000.

C. Other Entities Listed in the U.S. Schedule to Annex 9.1.2(b)(i), Section C

(1) Procurement of goods and services for List B Entities— $622,000;

(2) Procurement of construction services—$7,777,000.

VI. U.S.-Morocco FTA, Chapter 9

A. Central Government Entities Listed in the U.S. Schedule to Annex 9-A-1

(1) Procurement of goods and services—$202,000; and

(2) Procurement of construction services—$7,777,000.

B. Sub-Central Government Entities Listed in the U.S. Schedule to Annex 9-A-2

(1) Procurement of goods and services—$552,000; and

(2) Procurement of construction services—$7,777,000.

C. Other Entities Listed in the U.S. Schedule to Annex 9-A-3

(1) Procurement of goods and services for List B Entities— $622,000;

(2) Procurement of construction services—$7,777,000.

VII. NAFTA, Chapter 10

A. Federal Government Entities Listed in the U.S. Schedule to Annex 1001.1a-1

(1) Procurement of goods and services—$77,494; and

(2) Procurement of construction services—$10,074,262.

B. Government Enterprises Listed in the U.S. Schedule to Annex 1001.1a-2

(1) Procurement of goods and services—$387,471; and

(2) Procurement of construction services—$12,399,671.

VIII. U.S.-Oman FTA, Chapter 9

A. Central Level Government Entities Listed in the U.S. Schedule to Annex 9, Section A

(1) Procurement of goods and services—$202,000; and

(2) Procurement of construction services—$10,074,262.

B. Other Covered Entities Listed in the U.S. Schedule to Annex 9, Section B

(1) Procurement of goods and services for List B Entities— $622,000;

(2) Procurement of construction services—$12,399,671.

IX. U.S.-Peru TPA, Chapter 9

A. Central Government Entities Listed in the U.S. Schedule to Annex 9.1, Section A

(1) Procurement of goods and services—$202,000; and

(2) Procurement of construction services—$7,777,000.

B. Sub-Central Government Entities Listed in the U.S. Schedule to Annex 9.1, Section B

(1) Procurement of goods and services—$552,000; and

(2) Procurement of construction services—$7,777,000.

C. Other Entities Listed in the U.S. Schedule to Annex 9.1, Section C

(1) Procurement of goods and services for List B Entities—$622,000;

(2) Procurement of construction services—$7,777,000.

X. U.S.-Singapore FTA, Chapter 13

A. Central Government Entities Listed in the U.S. Schedule to Annex 13A, Schedule 1, Section A

(1) Procurement of goods and services—$77,494; and

(2) Procurement of construction services—$7,777,000.

B. Sub-Central Government Entities Listed in the U.S. Schedule to Annex 13A, Schedule 1, Section B

(1) Procurement of goods and services—$552,000; and

(2) Procurement of construction services—$7,777,000.

C. Other Entities Listed in the U.S. Schedule to Annex 13A, Schedule 1, Section C

(1) Procurement of goods and services—$622,000;

(2) Procurement of construction services—$7,777,000.

Ronald Kirk,
United States Trade Representative.

[FR Doc. 2011-31512 Filed 12-7-11; 8:45 am]

BILLING CODE 3190-W2-P